DEPARTMENT OF JUSTICE

Notice of Lodging of Consent Decree Pursuant to Section 107 of CERCLA

Notice is hereby given that on September 6, 2001, the United States lodged a proposed Consent Decree with the United States District Court for the Southern District of Texas, in United States of America v. Atlantic Richfield Company, et al., No. H-98-0408, a case brought under section 107 of the Comprehensive Environmental Response, Compensation and Liability Act of 1980, as amended, 42 U.S.C. 9607. The proposed Consent Decree resolves civil claims of the United State and the State of Texas against 28 Settling Defendants and third party defendants in connection with the Sikes Disposal Pits Superfund Site, located in Crosby, Texas. The Settling Defendants will pay a combined total of $120,000,000, plus interest, in reimbursement of response costs incurred at the Site by the United States and the State of Texas. Under the Consent Decree, the United States will receive $111,300,000, plus interest, and the State of Texas will receive $8,700,000, plus interest.

The Department of Justice will receive for a period of thirty (30) days from the date of this publication comments relating to the proposed Consent Decree. Comments should be addressed to the Assistant Attorney General, Environment and Natural Resources Division, United States Department of Justice, PO Box 7611, Ben Franklin Station, Washington, DC 20044-7611, and should refer to United States of America v. Atlantic Richfield Company, et al., DJ No. 90-11-3-1419. Commenters may request an opportunity for a public meeting in the affected area, in accordance with Section 7003(d) of the Resource, Conservation & Recovery Act (“RCRA”), 42 U.S.C. 6973 (d).

The proposed Consent Decree may be examined at the Office of the United States Attorney for the Southern District of Texas, 515 Rusk, Ste. 3300, Houston, Texas 77002, and the Region VI Office of the United States Environmental Protection Agency, 1445 Ross Avenue, Dallas, Texas, 75202. A copy of the proposed Consent Decree may be obtained by mail from the Department of Justice Consent Decree Library, PO Box 7611, Washington, DC 20044-7611. In requesting a copy, please enclose a check for reproduction costs (at 25 cents per page) in the amount of $16.25, payable to the Consent Decree Library.

Thomas A. Mariani, Jr.,
Assistant Chief, Environmental Enforcement Section, Environment and Natural Resources Division.

[FR Doc. 01-23366 Filed 9-19-01; 8:45 am]

BILLING CODE 4410-15-M